DEPARTMENT OF TRANSPORTATION

Federal Motor Carrier Safety Administration

[Docket No. FMCSA-2008-0362]

Medical Review Board Public Meeting

AGENCY: Federal Motor Carrier Safety Administration (FMCSA), DOT.

ACTION: Notice of Medical Review Board (MRB) public meeting.

SUMMARY: FMCSA announces that the Medical Review Board (MRB) will meet on February 13, 2013. The MRB will review an evidence report about fatigue-related research concerning bus and motorcoach drivers to identify relevant scientific and medical studies the Agency could rely upon in making any future decisions about the HOS requirements applicable to such drivers. The meeting is open to the public and there will be a public comment period at the end of the day.

Times and Dates: The meeting will be held on Wednesday, February 13, 2013, from 9 a.m. to 5 p.m., Eastern Standard Time (E.S.T.). The meeting will be held at the Hilton Alexandria Old Town, 1767 King Street, Alexandria, VA 22314 in Salon BC on the main floor. The Hilton Alexandria Old Town is located across the street from the King Street Metro station.

An agenda for the meeting will be made available in advance of the meeting at http://mrb.fmcsa.dot.gov.

FOR FURTHER INFORMATION CONTACT: Angela Ward, R.N., Nurse Consultant, Medical Programs Division, Federal Motor Carrier Safety Administration, 1200 New Jersey Avenue SE., Washington, DC 20590, (202) 366-4001, fmcsamedical@dot.gov.

Services for Individuals With Disabilities

For information on facilities or services for individuals with disabilities or to request special assistance at the meeting, contact Angela Ward at (202) 366-4001 or at fmcsamedical@dot.gov by Tuesday, February 5, 2013.

SUPPLEMENTARY INFORMATION:

I. Background

MRB

The Medical Review Board (MRB) is comprised of five medical experts who serve staggered, 2-year terms. The U.S. Secretary of Transportation announced those currently serving on the MRB on November 2, 2010, and June 13, 2012. Section 4116 of the Safe, Accountable, Flexible, Efficient Transportation Equity Act: A Legacy for Users (SAFETEA-LU), [Pub. L. 109-59, 119 Stat. 1144, Aug. 10, 2005] requires the Secretary of Transportation, with the advice of the MRB and the chief medical examiner, to establish, review, and revise “medical standards for operators of commercial motor vehicles that will ensure that the physical condition of operators of commercial motor vehicles is adequate to enable them to operate the vehicles safely.”

The MRB operates in accordance with the Federal Advisory Committee Act (FACA) as announced in the Federal Register (70 FR 57642, October 3, 2005). The MRB is charged initially with the review of all current FMCSA medical standards (49 CFR 391.41), as well as proposing new science-based standards and guidelines to ensure that drivers operating commercial motor vehicles (CMVs) in interstate commerce, as defined in 49 CFR 390.5, are physically capable of doing so.

II. Meeting Participation

The entire meeting of the MRB is open to the public. Oral comments on the topic from the public will be heard during the last hour (3:45 p.m. to 4:45 p.m.) of the meeting. Oral comments may be limited and will be accepted on a first come, first serve basis as requestors register at the meeting. Should all public comments be exhausted prior to the end of the specified period, the comment period will close. Members of the public may submit written comments to the Federal Docket Management System (FDMS) on this topic by Tuesday, February 5, 2013. You may submit written comments bearing the Federal Docket Management System (FDMS) Docket ID FMCSA-2008-0362 using any of the following methods:

• Federal eRulemaking Portal: Go to http://www.regulations.gov. Follow the on-line instructions for submitting comments.

• Mail: Docket Management Facility; U.S. Department of Transportation, 1200 New Jersey Avenue SE., West Building, Room W12-140, Washington, DC 20003-3302.

• Hand Delivery: West Building Ground Floor, Room W12-140, 1200 New Jersey Avenue SE., Washington, DC, between 9 a.m. and 5 p.m. ET., Monday through Friday, except Federal holidays.

• Federal eRulemaking Portal: Go to http://www.regulations.gov. Follow the online instructions for submitting comments.

• Fax: 1-202-493-2251.

Instructions: Each submission must include the Agency name and FDMS Docket ID for this Notice. Note that DOT posts all comments without change to http://www.regulations.gov, including any personal information included in a comment. Please see the Privacy Act heading below for further information.

Docket: For access to the docket to read background documents or comments received, go to http://www.regulations.gov at any time or Room W12-140 on the ground level of the West Building, 1200 New Jersey Avenue SE., Washington, DC, between 9 a.m. and 5 p.m. ET, Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.).

You may review the DOT's complete Privacy Act Statement in the Federal Register published on April 11, 2000 (65 FR 19477). This information is also available at http://www.regulations.gov.

Issued on: January 18, 2013.
Larry W. Minor,
Associate Administrator of Policy.

[FR Doc. 2013-01510 Filed 1-24-13; 8:45 am]

BILLING CODE 4910-EX-P